FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 13, 2016.

A. Federal Reserve Bank of Chicago (Colette A. Fried, Assistant Vice President) 230 South LaSalle Street, Chicago, Illinois 60690-1414:

1. James and Dorothy Watson, Pewaukee, Wisconsin, as trustee of the James M. Watson & Dorothy Jean Watson Revocable Trust; the James M. Watson & Dorothy Jean Watson Revocable Trust; together with Al Lustig and Janice Watson, Thiensville, Wisconsin, as trustee of the Al Lustig & Janice Watson Trust; the Al Lustig & Janice Watson Trust; Richard and Christine Watson, Richmond, Virginia, as trustee of the Richard J. Watson and Christine E. Watson Revocable Living Trust; the Richard J. Watson and Christine E. Watson Revocable Living Trust; Andrew Lustic, Theinsville, Wisconsin; Daniel J. Watson, Mesa, Arizona; Sarah E. Watson, LaCrosse, Wisconsin; and Catharine De Renzis, Richmond, Virginia, as a group acting in concert; to retain voting shares of Citizens Bank Holding, Inc., Mukwonago, Wisconsin, and thereby indirectly retain voting shares of Citizens Bank, Mukwonago, Wisconsin.

Board of Governors of the Federal Reserve System, March 24, 2016.
Michael J. Lewandowski,
Associate Secretary of the Board.

[FR Doc. 2016-07057 Filed 3-28-16; 8:45 am]

BILLING CODE 6210-01-P